DEPARTMENT OF TRANSPORTATION

Pipeline and Hazardous Materials Safety Administration

[Docket No. PHMSA-2011-0127]

Pipeline Safety: Meetings of the Technical Pipeline Safety Standards Committee and the Technical Hazardous Liquid Pipeline Safety Standards Committee

AGENCY: Pipeline and Hazardous Materials Safety Administration (PHMSA), DOT.

ACTION: Notice of advisory committee meetings and request for comments.

SUMMARY: PHMSA announces meetings of the Technical Pipeline Safety Standards Committee (TPSSC) and the Technical Hazardous Liquid Pipeline Safety Standards Committee (THLPSSC) and the creation of a subcommittee to assist PHMSA in the preparation of a pipeline safety report to the nation. PHMSA will host a series of meetings with a newly formed subcommittee to review and consider information gathered in response to the U.S. Department of Transportation's and PHMSA's action plan and information related to a recent pipeline safety forum. PHMSA is also requesting general public comments including comments on a report titled, “The State of the National Pipeline Infrastructure—A Preliminary Report.”

DATES: Comments on “The State of the National Pipeline Infrastructure—A Preliminary Report” must be received on or before July 13, 2011, to be considered by the subcommittee members prior to submission of their draft recommendations to the parent committees. For the meeting schedule see SUPPLEMENTARY INFORMATION.

Attendees should register for the June 15 and August 2-3 meetings in advance at: http://primis.phmsa.dot.gov/meetings/. On-site registration for each meeting will be available 30 minutes prior to the meeting start time. The meetings will not be webcast; however, presentations will be available on the meeting Web site and posted in the E-Gov Web site http://www.regulations.gov under docket number PHMSA-2011-0127 within 30 days following the meeting.

ADDRESSES: The meeting locations and any new information or changes will be posted on the PHMSA/Office of Pipeline Safety “Pipeline Safety Awareness” Web page (http://opsweb.phmsa.dot.gov/pipelineforum/) 15 days before the meeting takes place.

Comments may be submitted to the docket in the following ways:

E-Gov Web Site: http://www.regulations.gov. This site allows the public to enter comments on any Federal Register notice issued by any agency.

Fax: 1-202-493-2251.

Mail: Docket Management Facility; U.S. Department of Transportation, 1200 New Jersey Avenue, SE., West Building, Room W12-140, Washington, DC 20590-001.

Hand Delivery: Room W12-140 on the ground level of the U.S. Department of Transportation, West Building, 1200 New Jersey Avenue, SE., Washington, DC, between 9 a.m. and 5 p.m., Monday through Friday, except Federal Holidays.

Instructions: Identify the docket number PHMSA-2011-0127 at the beginning of your comments. Note that all comments received will be posted without change to http://www.regulations.gov, including any personal information provided. You should know that anyone is able to search the electronic form of all comments received into any of our dockets by the name of the individual submitting the comment (or signing the comment, if submitted on behalf of an association, business, labor union, etc.). Comments will also be placed on forum Web site at http://opsweb.phmsa.dot.gov/pipelineforum/. Therefore, you may want to review DOT's complete Privacy Act Statement in the Federal Register published on April 11, 2000 (65 FR 19477) or view the Privacy Notice at http://www.regulations.gov before submitting any such comments.

Docket: For access to the docket or to read background documents or comments, go to http://www.regulations.gov at any time or to Room W12-140 on the ground level of the U.S. Department of Transportation, West Building, 1200 New Jersey Avenue, SE., Washington, DC, between 9 a.m. and 5 p.m., Monday through Friday, except Federal holidays.

If you wish to receive confirmation of receipt of your written comments, please include a self-addressed, stamped postcard with the following statement: “Comments on PHMSA-2011-0127.” The Docket Clerk will date-stamp the postcard prior to returning it to you via the U.S. mail. Please note that due to delays in the delivery of U.S. mail to Federal offices in Washington, DC, we recommend that persons consider an alternative method (Internet, fax, or professional delivery service) of submitting comments to the docket and ensuring their timely receipt at DOT.

Information on Services for Individuals With Disabilities

For information on facilities or services for individuals with disabilities, or to seek special assistance at the meeting, please contact Cheryl Whetsel at 202-366-4431 by June 1, 2011.

FOR FURTHER INFORMATION CONTACT: • Technical Advisory Committee Meeting Details: Cheryl Whetsel 202-366-4431 or by e-mail at cheryl.whetsel@dot.gov.

• Report to the Nation on Pipeline Safety: Linda Daugherty 202-366-4595 or by e-mail at linda.daugherty@dot.gov.

SUPPLEMENTARY INFORMATION:

I. Background

Following several major pipeline accidents, the Secretary of Transportation issued a “Call to Action” and held a pipeline safety forum to engage pipeline safety experts, researchers, industry representatives, state partners, other Federal agency officials, and members of the public to identify actions to address America's pipeline transportation infrastructure. In response to the “Call to Action,” the U.S. Department of Transportation and PHMSA published a report titled: “State of the National Pipeline Infrastructure—Preliminary Report” and launched a Web site, http://opsweb.phmsa.dot.gov/pipelineforum/, for public engagement and regular reporting to the public. This Web site includes information such as ongoing pipeline rehabilitation, replacement and repair initiatives along with all forum-related comments. PHMSA continues to invite comments on the Preliminary Report in addition to any other ideas that may be relevant to pipeline safety. Comments should be submitted in accordance with the instructions detailed under ADDRESSES. Following the forum, a subcommittee of the TPSSC and THLPSSC was established to work with PHMSA staff to assist in the creation of a pipeline safety report to the nation. The subcommittee is made up of six members, three each from the TPSSC and THLPSSC, with equal representation from government, industry, and the public. At the joint advisory committee meeting in August, the subcommittee will present its recommendations and a draft of the pipeline safety report to the nation for the joint committees' review and deliberation.

II. Committee Background

The TPSSC and THLPSSC are statutorily mandated advisory committees that advise PHMSA on proposed safety standards, risk assessments, and safety policies for natural gas pipelines and for hazardous liquid pipelines. Both committees were established under the Federal Advisory Committee Act (Pub. L. 92-463, 5 U.S.C. App. 1) and the pipeline safety law (49 U.S.C. Chap. 601). Each committee consists of 15 members—with membership evenly divided among the Federal and state government, the regulated industry, and the public. The committees advise PHMSA on the technical feasibility, practicability, and cost-effectiveness of each proposed pipeline safety standard and provide feedback on policy matters.

III. Public Participation and Meeting Schedule

Members of the public may make a statement during the public committee meetings. Statements previously submitted to forum should not be repeated. If you intend to make a statement, please notify the relevant contact under FOR FURTHER INFORMATION CONTACT at least 15 days prior to the meeting date. The meetings' presiding officer may deny a nonscheduled request to make a statement and may also limit the time of any speaker.

The public is encouraged to attend the subcommittee kick-off meeting and the joint Advisory Committee meetings. The dates are as follows:

1. June 15, 2011, 9 a.m. to 4 p.m., subcommittee kick-off meeting, Washington, DC. The agenda includes an introduction of the subcommittee and discussion of the subcommittee's task. This meeting will provide the public an opportunity to participate in an exchange of ideas and recommendations, including a discussion of the report outline, prior to the subcommittee's preparatory meetings.

2. August 2-3, 2011, 9 a.m. to 5 p.m., TPSSC and THLPSSC joint public meeting, Washington, DC. The agenda will include an overview of the subcommittee's deliberations and summary of the draft final report.

The subcommittee will conduct preparatory work on the following dates:

1. June 16, 2011, 9 a.m. to 4 p.m., subcommittee preparatory meeting, Washington, DC.

2. July 13-14, 2011, 9 a.m. to 4 p.m., subcommittee preparatory meeting, Washington, DC.

Meetings scheduled on June 16, July 13-14 are work meetings; public statements will be heard at the June 15, August 2-3 meetings.

Authority: 49 U.S.C. 60102, 60115; 60118.

Issued in Washington, DC, on May 16, 2011.
Linda Daugherty,
Deputy Associate Administrator for Policy and Programs.

[FR Doc. 2011-12384 Filed 5-19-11; 8:45 am]

BILLING CODE 4910-60-P